DEPARTMENT OF THE TREASURY

United States Mint

Notification of American Eagle Platinum Uncirculated Coin Price Increases

SUMMARY: The United States Mint is adjusting prices for its American Eagle Platinum Uncirculated One-Ounce Coins and its American Eagle Platinum Uncirculated One-Tenth Ounce Coins.

Pursuant to the authority that 31 U.S.C. 5111(a) and 5112(k) grant the Secretary of the Treasury to mint and issue platinum coins, and to prepare and distribute numismatic items, the United States Mint mints and issues 2007 American Eagle Uncirculated Coins with the following weights: One-ounce and one-tenth ounce. In accordance with 31 U.S.C. 9701(b)(2)(B), the United States Mint is changing the price of these coins to reflect the increases in the market price of platinum.

Accordingly, the United States Mint will commence selling the following 2007 American Eagle Uncirculated Coins according to the following price schedule:

Description | Price
American Eagle Platinum Uncirculated Coins
One-ounce platinum coin | $2,189.95
One-tenth ounce platinum coin | 244.95

FOR FURTHER INFORMATION CONTACT: Gloria C. Eskridge, Associate Director for Sales and Marketing; United States Mint; 801 Ninth Street, NW., Washington, DC 20220; or call 202-354-7500.

Authority: 31 U.S.C. 5111, 5112 & 9701.

Dated: May 5, 2008.
Edmund C. Moy,
Director, United States Mint.

[FR Doc. E8-10308 Filed 5-7-08; 8:45 am]

BILLING CODE 4810-02-P